DEPARTMENT OF STATE

[Public Notice 8328]

Notice of Availability of Finding of No Significant Impact for the Proposed Vantage Pipeline US LP Ethane Pipeline Project

SUMMARY: The purpose of this notice is to inform the public of the availability of the Department of State's Finding of No Significant Impact on the proposed Vantage Pipeline US LP Ethane Pipeline Project. Under E.O. 13337, the Secretary of State is authorized to issue Presidential Permits for the construction, connection, operation, or maintenance at the borders of the United States, of facilities for the exportation or importation of liquid petroleum, petroleum products, or other non-gaseous fuels to or from a foreign country. Vantage Pipeline US LP (Vantage) has applied to the Department of State (the Department) for a Presidential Permit authorizing it to develop and maintain a new pipeline facility at the U.S.-Canada international boundary, a Cross Border Facility, near Fortuna, Divide County, North Dakota.

Vantage proposes to construct, operate, and maintain a high vapor pressure pipeline that would carry ethane from a source near Tioga, North Dakota, United States, northwest through Saskatchewan, Canada, to a site near Empress, Alberta, Canada. The pipeline would link a growing supply of ethane from North Dakota to markets in Alberta, Canada. The entire proposed Vantage Pipeline in the United States would consist of the installation of approximately 79.8 miles of new 10-inch-diameter pipeline in Williams and Divide Counties, North Dakota; the installation of associated aboveground mainline block valves; and the use of access roads and pipe storage and contractor yards.

Consistent with NEPA (42 U.S.C. 4321, et seq.), the regulations of the Council on Environmental Quality (40 CFR parts 1500-1508), and the Department's implementing regulations (22 CFR part 161, and in particular 22 CFR 161.7(c)), the Department of State has found that issuance of a Presidential Permit authorizing the construction, connection, operation, and maintenance of the Cross Border Facility would not have a significant impact on the quality of the human environment. The Finding of No Significant Impact was signed by the Department on May 13, 2013.

This Finding of No Significant Impact is not a decision on the Presidential Permit application. In accordance with E.O. 13337, the Department will now proceed to make a determination as to whether issuance of a Presidential Permit for the border facilities of Vantage's proposed Ethane Pipeline Project would serve the national interest.

The Finding of No Significant Impact is available from the Department on the Vantage Pipeline Project Web site. The following link leads to the posted Vantage Finding of No Significant Impact: http://www.vantagepipeline.state.gov/dosdocuments.html.

FOR FURTHER INFORMATION CONTACT: Genevieve Walker, Office of Environmental Quality and Transboundary Issues, Department of State, 2201 C Street NW., Washington DC 20520, Tel: 202-647-9798; EMAIL: walkerg@state.gov.

Persons with access to the Internet may view this notice by going to the regulations.gov Web site and searching on docket number DOS-2013-0010.

Dated: May 13, 2013.
George N. Sibley,
Director, Office of Environmental Quality and Transboundary Issues, Department of State.

[FR Doc. 2013-11877 Filed 5-16-13; 8:45 am]

BILLING CODE 4710-09-P